FEDERAL FINANCIAL INSTITUTIONS EXAMINATION COUNCIL

12 CFR Part 1102

[Docket No. AS04-1]

Appraisal Subcommittee; Appraiser Regulation

AGENCY: Appraisal Subcommittee, Federal Financial Institutions Examination Council (“ASC”).

ACTION: Final rule amendments.

SUMMARY: The ASC is adopting nonsubstantive amendments to its regulations that correct the ASC's office's street address, zip code, and telephone numbers to reflect an office relocation from 2100 Pennsylvania Avenue, NW., to 2000 K Street, NW., Washington, DC.

EFFECTIVE DATE: January 16, 2004.

FOR FURTHER INFORMATION CONTACT: Marc L. Weinberg, General Counsel, at (202) 293-6250 or marc@asc.gov; Appraisal Subcommittee; 2000 K Street, NW., Suite 310; Washington, DC 20006.

SUPPLEMENTARY INFORMATION:

I. Authority and Section-by-Section Analysis

The ASC, since its creation under Title XI of the Financial Institutions Reform, Recovery, and Enforcement Act of 1989, as amended (“Title XI”), has adopted and amended several regulations that appear at 12 CFR part 1102. These regulations, found in subparts A, B, C, and D of that part, relate to the ASC's implementation of The Privacy Act of 1974, the Freedom of Information Act, and various sections of Title XI.

In November 1998, the ASC moved its offices from 2100 Pennsylvania Avenue, NW., to its current location at 2000 K Street, NW. Part 1102, as adopted, contained numerous references to the ASC's Pennsylvania Avenue address and one reference to its previous fax number. The ASC is amending part 1102 by removing all references to its Pennsylvania Avenue address and prior fax number and replacing it with its new K Street address and new fax number.

II. Administrative Requirements

A. Notice and Comment Requirements Under 5 U.S.C. 553

The ASC, under 12 U.S.C. 553, is required, among other things, to publish in the Federal Register for public notice and comment a general notice of proposed rule making, unless, in accordance with paragraph (b)(3)(B), the agency finds “for good cause . . . that notice and public procedure thereon are impracticable, unnecessary, or contrary to the public interest.” The ASC finds that notice and procedure are unnecessary in connection with these rule amendments because they are nonsubstantive and essentially are nomenclature changes, as that term is defined in the Federal Register Document Drafting Handbook, page 2-31 (October 1998).

List of Subjects in 12 CFR Part 1102

Administrative practice and procedure, Appraisers, Banks, banking, Freedom of Information, Mortgages, Reporting and recordkeeping requirements.

Text of the Rule

For the reasons set forth in the preamble, title 12, chapter XI of the Code of Federal Regulations is amended as follows:

PART 1102—APPRAISER REGULATION

1. The authority citation for part 1102, subpart A, continues to read as follows:

Authority: 12 U.S.C. 3348(a).

2. The authority citation for part 1102, subpart B, continues to read as follows:

Authority: 12 U.S.C. 3332, 3335, and 3348(c).

3. The authority citation for part 1102, subpart C, continues to read as follows:

Authority: 12 U.S.C. 552a.

4. The authority citation for part 1102, subpart D, continues to read as follows:

Authority: 5 U.S.C. 552, 553(e); Executive Order 12600, 52 FR 23781, 3 CFR, 1987 Comp., p. 235.

5. In 12 CFR part 1102, remove the words “2100 Pennsylvania Avenue, NW., Suite 200, Washington, DC 20037” wherever they appear and add, in their place, the words, “2000 K Street, NW., Suite 310, Washington, DC 20006.”

6. In 12 CFR part 1102, remove the words “2100 Pennsylvania Avenue, NW., Suite 200, Washington, DC” wherever they appear and add, in their place, the words, “2000 K Street, NW., Suite 310, Washington, DC.”

7. In 12 CFR part 1102, § 1102.306(a)(1)(i), remove the fax number, “(202) 872-7501” and add, in its place, “(202) 293-6251.”

By the Appraisal Subcommittee of the Federal Financial Institutions Examination Council.
Dated: January 12, 2004.
Ben Henson,
Executive Director.

[FR Doc. 04-945 Filed 1-15-04; 8:45 am]

BILLING CODE 6700-01-P